DEPARTMENT OF COMMERCE

National Oceanic and Atmospheric Administration

RIN 0648-XA054

Endangered Species; File No. 15606

AGENCY: National Marine Fisheries Service (NMFS), National Oceanic and Atmospheric Administration (NOAA), Commerce.

ACTION: Notice; receipt of application.

SUMMARY: Notice is hereby given that Andre Landry, Ph.D., Texas A&M University at Galveston, Department of Marine Biology, 5007 Avenue U, Galveston, TX 77553, has applied in due form for a permit to take green (Chelonia mydas), Kemp's ridley (Lepidochelys kempii), loggerhead (Caretta caretta), and hawksbill (Eretmochelys imbricata) sea turtles for purposes of scientific research.

DATES: Written, telefaxed, or e-mail comments must be received on or before December 27, 2010.

ADDRESSES: The application and related documents are available for review by selecting “Records Open for Public Comment” from the Features box on the Applications and Permits for Protected Species (APPS) home page, https://apps.nmfs.noaa.gov, and then selecting File No. 15606 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, FL 33701; phone (727) 824-5312; fax (727) 824-5309.

Written comments on this application should be submitted to the Chief, Permits, Conservation and Education Division, at the above listed address. Comments may also be submitted by facsimile to (301) 713-0376, or by e-mail to NMFS.Pr1Comments@noaa.gov. Please include the File No. in the subject line of the e-mail comment.

Those individuals requesting a public hearing should submit a written request to the Chief, Permits, Conservation and Education Division at the above listed address. The request should set forth the specific reasons why a hearing on this application would be appropriate.

FOR FURTHER INFORMATION CONTACT: Colette Cairns or Amy Hapeman, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Dr. Landry requests a five-year permit to take sea turtles for scientific research in Gulf of Mexico waters. The purposes of these projects are to: (1) Examine green sea turtle assemblages in sea grass habitats in Texas; (2) determine trends in seasonal abundance and movement of green, Kemp's ridley and loggerhead sea turtles in Texas and Louisiana estuaries; (3) characterize environmental estrogen uptake in green and Kemp's ridley sea turtles at a Texas Superfund site; and (4) document impacts of the Deepwater Horizon oil spill on sea turtle assemblages in the western Gulf of Mexico. The applicant proposes to capture by entanglement or cast net, transport, photograph, measure, weigh, flipper tag, passive integrated transponder (PIT) tag, blood, fecal, epiphyte and tissue sample, attach satellite transmitters to and release sea turtles.

In project 1, the applicant proposes to take up to 150 green, 30 Kemp's ridley, and 20 loggerhead sea turtles annually. Sea turtles would be captured via entanglement or cast net, measured, weighed, photographed, epibiota removed, flipper and PIT tagged, epiphyte and tissue sampled prior to release. Up to 120 green sea turtles would be additionally epiphyte sampled. An additional 25 green turtles would also be satellite tagged, tracked, and fecal sampled prior to release.

In project 2, the applicant proposes to take up to 15 green, 135 Kemp's ridley, and 10 loggerhead sea turtles via entanglement net annually. Turtles would be measured, weighed, photographed, epibiota removed, flipper and PIT tagged, epiphyte and tissue sampled. Another 10 green, 14 Kemp's ridley, and 40 loggerhead sea turtles that have been legally captured by relocation trawlers working in conjunction with the U.S. Army Corps of Engineers would be authorized for these activities each year. A subset of up to 14 Kemp's ridley sea turtles would be satellite tagged, tracked, and fecal sampled annually.

In project 3, the applicant proposes to take up to 12 green and 12 Kemp's ridley sea turtles annually. Turtles would be collected via entanglement net, measured, photographed, weighed, epibiota removed, flipper and PIT tagged, and blood sampled.

In project 4, the applicant proposes to take up to 20 green and 20 loggerhead sea turtles annually. Sea turtles would be captured via entanglement or cast net, measured, weighed, photographed, epibiota removed, flipper and PIT tagged, blood and tissue sampled. Up to 200 Kemp's ridley, 20 loggerhead, 20 green, and 10 hawksbill sea turtles would additionally be satellite tagged, tracked, blood and fecal sampled each year.

Dated: November 19, 2010.
P. Michael Payne,
Chief, Permits, Conservation and Education Division, Office of Protected Resources, National Marine Fisheries Service.

[FR Doc. 2010-29667 Filed 11-23-10; 8:45 am]

BILLING CODE 3510-22-P